DEPARTMENT OF JUSTICE

Notice of Lodging of Proposed Consent Decree Under the Clean Water Act

On May 7, 2015, the Department of Justice lodged a proposed Consent Decree with the United States District Court for the District of Idaho in the lawsuit entitled United States and State of Idaho v. City of Jerome, Idaho, Civil Action No. 15-155.

The Complaint alleges that the City of Jerome discharged pollutants from its publicly owned wastewater treatment facility and sanitary sewer collection system, in violation of its National Pollutant Discharge Elimination System permit, issued by EPA pursuant to the Clean Water Act. Under the proposed Consent Decree, the City commits to upgrading the capacity of its wastewater treatment facility and payment of $86,000 in penalty. Pursuant to Section 309(e) of the Clean Water Act, 33 U.S.C. 1319(e), the State of Idaho is named as a co-plaintiff.

The publication of this notice opens a period for public comment on the Consent Decree. Comments should be addressed to the Assistant Attorney General, Environment and Natural Resources Division, and should refer to United States and State of Idaho v. City of Jerome, Idaho, D.J. Ref. No. 90-5-1-1-10697. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11 (25 cents per page reproduction cost) payable to the United States Treasury.

Susan M. Akers,
Assistant Section Chief, Environmental Enforcement Section, Environment and Natural Resources Division.

[FR Doc. 2015-11743 Filed 5-14-15; 8:45 am]

BILLING CODE 4410-15-P